DEPARTMENT OF ENERGY

Federal Energy Regulatory Commission

[Docket No. RP04-181-000]

Kern River Gas Transmission Company; Notice of Proposed Changes in FERC Gas Tariff

March 2, 2004.

Take notice that on February 27, 2004, Kern River Gas Transmission Company (Kern River) tendered for filing as part of its FERC Gas Tariff, Second Revised Volume No. 1, the following tariff sheets, to be effective as indicated below:

Twelfth Revised Sheet No. 5

Eighth Revised Sheet No. 5-A

Tenth Revised Sheet No. 6

Kern River states that the purpose of this filing is to adjust the electric compressor fuel surcharges applicable to both rolled-in rate and incremental rate shippers for quantities of gas scheduled for delivery downstream of the Daggett compressor station and to incorporate the revised surcharges into Kern River's tariff, to be effective April 1, 2004.

Kern River further states that in conjunction with this filing, and in compliance with the Commission's “Order Issuing Certificate” dated July 26, 2001, pertaining to Kern River's 2002 Expansion Project, Kern River also is submitting a work paper showing the 2003 net benefit to vintage shippers of rolling in Kern River's 2002 expansion project after actual fuel costs are considered.

Kern River states that it has served a copy of this filing upon its customers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-500 Filed 3-8-04; 8:45 am]

BILLING CODE 6717-01-P